DEPARTMENT OF DEFENSE

Department of the Army, Corps of Engineers

33 CFR Part 334

United States Marine Corps Restricted Area; Broad River and Beaufort River and tributaries, Marine Corps Recruit Depot, Parris Island, South Carolina

AGENCY: United States Army Corps of Engineers, DoD.

ACTION: Notice of proposed rulemaking and request for comments.

SUMMARY: The Corps of Engineers is proposing regulations to establish a restricted area around the Marine Corps Recruit Depot (MCRD), Parris Island, South Carolina including areas within the Broad River, the Beaufort River, Battery Creek, Archers Creek, Ballast Creek and Ribbon Creek in the vicinity of the Marine Corps Recruit Depot, Parris Island, South Carolina. The MCRD restricted area will surround Parris Island and Horse Island and the causeways in between. The purpose of these regulations is to provide effective security in the vicinity of the Marine Corps Recruit Depot.

DATES: Written comments must be submitted on or before July 25, 2005.

ADDRESSES: Written comments should be sent to the U.S. Army Corps of Engineers, Attn: CECW-MVD (David B. Olson), 441 G Street NW., Washington, DC 20314-1000, or by e-mail to david.b.olson@usace.army.mil. Electronic comments should be submitted in ASCII format or portable document format to ensure that those comments can be read. Electronic files should avoid the use of special characters and any form of encryption, and be free of any defects or viruses. Consideration will be given to all comments received within 30 days of the date of publication of this notice.

FOR FURTHER INFORMATION CONTACT: Mr. David Olson, U.S. Army Corps of Engineers, Headquarters, Washington, DC at 202-761-4922, or Mr. Dean Herndon, U.S. Army Corps of Engineers, Charleston District, at (843) 329-8044.

SUPPLEMENTARY INFORMATION: Pursuant to its authorities in Section 7 of the Rivers and Harbors Act of 1917 (40 Stat 266; 33 U.S.C. 1) and Chapter XIX, of the Army Appropriations Act of 1919 (40 Stat 892; 33 U.S.C. 3) the Corps proposes to establish a restricted area around the Marine Corps Recruit Depot, Parris Island by adding § 334.485 to 33 CFR part 334. The sections of the restricted area are described in detail in the regulation below. Except for the restricted area published at 33 CFR 334.480 (restricted areas for the rifle and pistol range), the public currently has unrestricted access to navigable waters adjacent to the Marine Corps Recruit Depot, Parris Island. The Commanding General, Marine Corps Recruit Depot, Parris Island is seeking authorization from the Corps of Engineers to establish restricted areas in waters of the United States adjacent to the Marine Corps Recruit Depot, Parris Island, South Carolina. The District Engineer's preliminary review indicates that this request is not contrary to the public interest.

Procedural Requirements

a. Review Under Executive Order 12866

This proposed rule is issued with respect to a military function of the Defense Department and the provisions of Executive Order 12866 do not apply.

b. Review Under the Regulatory Flexibility Act

These proposed rules have been reviewed under the Regulatory Flexibility Act (Pub. L. 96-354), which requires the preparation of a regulatory flexibility analysis for any regulation that will have a significant economic impact on a substantial number of small entities (i.e., small businesses and small governments). The Corps expects that the economic impact of the establishment of this restricted area would have practically no impact on the public, no anticipated navigational hazard or interference with existing waterway traffic and accordingly, certifies that this proposal, if adopted, will have no significant economic impact on small entities.

c. Review Under the National Environmental Policy Act

An environmental assessment has been prepared for this action. We have concluded, based on the minor nature of the proposed additional restricted area regulations, that this action, if adopted, will not have a significant impact to the quality of the human environment, and preparation of an environmental impact statement is not required. The environmental assessment may be reviewed at the district office listed at the end of FOR FURTHER INFORMATION CONTACT, above.

d. Unfunded Mandates Act

This proposed rule does not impose an enforceable duty among the private sector and, therefore, is not a Federal private sector mandate and is not subject to the requirements of Section 202 or 205 of the Unfunded Mandates Act. We have also found under Section 203 of the Act, that small governments will not be significantly and uniquely affected by this rulemaking.

List of Subjects in 33 CFR Part 334

Danger zones, Navigation (water), Marine safety, Restricted areas, Waterways.

For the reasons set out in the preamble, the Corps proposes to amend 33 CFR part 334 as follows:

PART 334—DANGER ZONE AND RESTRICTED AREA REGULATIONS

1. The authority citation for part 334 continues to read as follows:

Authority: 40 Stat. 266 (33 U.S.C. 1) and 40 Stat. 892 (33 U.S.C. 3).

2. Add § 334.485 to read as follows:

§ 334.485 Broad River and Beaufort River and tributaries surrounding Marine Corps Recruit Depot, Parris Island, South Carolina.

(a) The areas. (1) The area of waters within a 220 yard radius of the guarded check station entrance (latitude 32°22′29.5″ and longitude 80°43′0.5″) to the Marine Corps Recruit Depot, to include waters of Battery Creek.

(2) Beginning at the point where the radius of area (1) intersects with Malecon Drive, latitude 32°22′24″ and longitude 80°42′59″, for a waterward distance of 200 yards from each side of Malecon Drive causeway that connects Port Royal Island to Horse Island.

(3) All portions of Archers Creek, beginning at the Malecon Drive bridge crossing, latitude 32°21′42″ and longitude 80°42′47″, and traversing in a southwesterly direction to its western end confluence with the Broad River, latitude 32°21′00″ and longitude 80°44′20″, thence traversing in a southeasterly direction within the Broad River to include the following coordinates:

Latitude | Longitude
32°20′40″ | 80°43′55″
32°20′17″ | 80°43′27″
32°19′55″ | 80°43′17″
32°19′33″ | 80°42′53″
32°19′7″ | 80°42′34″
32°18′44″ | 80°42′16″
32°18′29″ | 80°42′01″
32°18′06″ | 80°41′35″
32°17′54″ | 80°41′10″
32°17′42″ | 80°40′33″

to the Broad River's confluence with the Beaufort River at latitude 32°17′28″ and longitude 80°40′00″. Thence traversing in a northerly direction within the Beaufort River to include the following coordinates:

Latitude | Longitude
32°18′00″ | 80°39′50″
32°18′27″ | 80°39′40″
32°18′57″ | 80°39′36″
32°19′26″ | 80°39′37″
32°19′58″ | 80°39′38″
32°20′21″ | 80°39′40″
32°20′52″ | 80°39′57″
32°21′04″ | 80°40′09″
32°21′17″ | 80°40′21″
32°21′35″ | 80°40′35″
32°21′48″ | 80°40′54″

to the Beaufort River's confluence with the eastern end of Archers Creek at latitude 32°22′03″ and longitude 80°41′20″. Then traversing in a westerly direction to encompass all of Archers Creek and ending at the Malecon Drive bridge crossing, latitude 32°21′42″ and longitude 80°42′47″.

(4) All other tidal tributaries and waters located within the interior of Parris Island and encompassed by Archers Creek to the north, the Broad River to the west and the Beaufort River to the east, to include, but not limited to, Ribbon Creek beginning at its confluence with the Broad River, latitude 32°20′22″ and longitude 80°43′20″, Ballast Creek beginning at its confluence with the Broad River, latitude 32°19′30″ and longitude 80°42′29″ and ending at its confluence with the Beaufort River, latitude 32°20′17″ and longitude 80°39′50″ and Whale Branch in its entirety, beginning at its confluence with the Broad River, latitude 32°18′48″ and longitude 80°41′57″.

(b) The regulations. (1) In the interest of national security, vessels and other watercraft may be restricted from using any or all of the areas described in paragraph (a) of this section at any time when deemed necessary and appropriately noticed by the Commanding General (CG), Marine Corps Recruit Depot, Parris Island, unless prior approval has otherwise been obtained from the CG.

(2) When not deemed necessary, the public shall have unrestricted access and use of the waters described in paragraph (a) of this section.

(3) All restricted areas will be marked with suitable warning signs.

(4) It is understood that none of the restrictions in this section will apply to properly marked Federal vessels performing official duties.

(5) It is further understood that unauthorized personnel will not take photographs from within the restricted areas described in paragraph (a) of this section.

(c) Enforcement: This section shall be enforced by the Commanding General, Marine Corps Recruit Depot, Parris Island, or persons or agencies as he/she may authorize including any Federal agency, State, local or county law enforcement agency, or private security firm in the employment of the Depot, so long as the entity undertaking to enforce this restricted area has the legal authority to do so under the appropriate Federal, State, or local laws.

Dated: June 18, 2005.
Michael B. White,
Chief, Operations, Directorate of Civil Works.

[FR Doc. 05-12461 Filed 6-22-05; 8:45 am]

BILLING CODE 3710-92-P